CONSUMER PRODUCT SAFETY COMMISSION

[Docket No. CPSC-2013-0001]

Proposed Extension of Approval of Information Collection; Comment Request—Safety Standard for Automatic Residential Garage Door Operators

AGENCY: Consumer Product Safety Commission.

ACTION: Notice.

SUMMARY: As required by the Paperwork Reduction Act (44 U.S.C. chapter 35), the Consumer Product Safety Commission (CPSC or Commission) requests comments on a proposed request for extension of approval of a collection of information from manufacturers and importers of residential garage door operators. The collection of information consists of testing and recordkeeping requirements in certification regulations implementing the Safety Standard for Automatic Residential Garage Door Operators (16 CFR part 1211). The Commission will consider all comments received in response to this notice, before requesting approval of this extension of a collection of information from the Office of Management and Budget (OMB).

DATES: The Office of the Secretary must receive written comments not later than December 3, 2012.

ADDRESSES: You may submit comments, identified by Docket No. CPSC-2013-0001, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: In 1990, Congress enacted legislation, under provisions of the Consumer Product Safety Act (CPSA) (15 U.S.C. 2051 et seq.), requiring that residential garage door operators comply with the provisions of a standard published by Underwriters Laboratories (UL) to protect against entrapment. The entrapment protection requirements of UL Standard 325 are codified into the Safety Standard for Automatic Residential Garage Door Operators, 16 CFR Part 1211. Automatic residential garage door operators must comply with the latest edition of the Commission's regulations at 16 CFR part 1211.

OMB approved the collection of information concerning the Safety Standard for Automatic Residential Garage Door Operators under control number 3041-0125. OMB's most recent approval will expire on December 31, 2012. The Commission now proposes to request an extension of approval of this collection of information.

A. Certification Requirements

Section 203 of Public Law 101-608 requires that UL Standard 325 shall be considered to be a consumer product safety standard under section 9 of the CPSA (15 U.S.C. 2058. The Commission's regulations provide that manufacturers and importers of automatic residential garage door operators subject to the safety standard shall issue certificates of compliance. 16 CFR 1112.20. Section 14(b) of the CPSA (15 U.S.C. 2063(b)) authorizes the Commission to issue regulations to prescribe a reasonable testing program to support certificates of compliance with a consumer product safety standard under the CPSA or similar rule, ban, standard, or regulation under any other act enforced by the Commission. Section 16(b) of the CPSA (15 U.S.C 2065(b)) authorizes the Commission to issue rules to require that firms “establish and maintain” records to permit the Commission to determine compliance with rules issued under the authority of the CPSA.

On December 22, 1992, the Commission issued rules prescribing requirements for a reasonable testing program to support certificates of compliance with the Safety Standard for Automatic Residential Garage Door Operators (57 FR 60449). These regulations also require manufacturers, importers, and private labelers of residential garage door operators to establish and maintain records to demonstrate compliance with the requirements for testing to support certification of compliance. 16 CFR Part 1211, Subparts B and C. The Commission uses the information compiled and maintained by manufacturers and importers of residential garage door operators to protect consumers from risks of death and injury resulting from entrapment accidents associated with garage door operators. More specifically, the Commission uses this information to determine whether the products produced and imported by those firms comply with the standard. The Commission also uses this information to facilitate corrective action if any residential garage door operators fail to comply with the standard in a manner that creates a substantial risk of injury to the public.

B. Estimated Burden

Commission staff estimates that about 23 firms are subject to the testing and recordkeeping requirements of the certification regulations. Staff estimates that each respondent will spend 40 hours annually on the collection of information, for a total of about 920 hours. The estimated total annual cost to industry is approximately $25,429, based on 920 hours × $27.64 (Bureau of Labor Statistics, total compensation for all sales and office workers in goods-producing private industries: http://www.bls.gov/ncs).

Commission staff will expend approximately 6 staff months reviewing records required to be maintained for automatic residential garage door operators. The annual cost to the federal government of the collection of information in these regulations is estimated to be $86,031. This estimate uses an annual total compensation of $119,238 (the equivalent of a GS-14 step 5 employee, with an additional 30.7 percent added for benefits.)

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Dated: October 1, 2012.
Todd A. Stevenson,
Secretary, Consumer Product Safety Commission.

[FR Doc. 2012-24487 Filed 10-3-12; 8:45 am]

BILLING CODE 6355-01-P